FEDERAL MARITIME COMMISSION

Notice of Agreements Filed

The Commission hereby gives notice of the filing of the following agreements under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011882.

Title: Zim/COSCON Slot Charter Agreement.

Parties: Cosco Container Lines Co. Ltd. and Zim Israel Navigation Company Ltd.

Synopsis: The agreement authorizes the parties to charter space to/from one another in the trade between North Europe and the Mediterranean and the United States East Coast. The agreement replaces with no changes the parties' previous agreement that expired by its own terms on May 1, 2004. The parties request expedited review.

Dated: May 18, 2004.
By Order of the Federal Maritime Commission.
Bryant L. VanBrakle,
Secretary.

[FR Doc. 04-11565 Filed 5-20-04; 8:45 am]

BILLING CODE 6730-01-P